FEDERAL COMMUNICATIONS COMMISSION

[Report No. 2397]

Petition for Reconsideration of Action in Rulemaking Proceeding

March 28, 2000.

Petition for Reconsideratiaon have been filed in the Commission's rulemaking proceeding listed in this Public Notice and published pursuant to 47 CFR Section 1.429(e). The full text of these documents are available for viewing and copying in Room CY-A257, 445 12th Street, S.W., Washington, D.C. or may be purchased from the Commission's copy contractor, ITS, Inc. (202) 857-3800. Oppositions to this petition must be filed by April 20, 2000. See Section 1.4(b)(1) of the Commission's rules (47 CFR 1.4(b)(1)). Replies to an opposition must be filed within 10 days after the time for filing oppositions has expired.

Subject: Federal-State Joint Board on Universal Service (CC Docket No. 96-45)

Number of Petitions Filed: 1

Federal Communications Commission.
Magalie Roman Salas,
Secretary.

[FR Doc. 00-8344 Filed 4-4-00; 8:45 am]

BILLING CODE 6712-01-M